ENVIRONMENTAL PROTECTION AGENCY

40 CFR Part 52

[EPA-R09-OAR-2012-0556; FRL-9736-8]

Revisions to the Nevada State Implementation Plan, Washoe County Air Quality District

AGENCY: Environmental Protection Agency (EPA).

ACTION: Final rule.

SUMMARY: EPA is finalizing approval of revisions to the Washoe County Air District Board of Health (WCDBOH) portion of the Nevada State Implementation Plan (SIP). This action was proposed in the Federal Register on July 30, 2012 and concerns regulations regarding compliance with permit conditions, recordkeeping, source sampling and testing, and statements of compliance with 40 CFR Part 70 permits. We are approving local rules that regulate these emission sources under the Clean Air Act (CAA or the Act).

DATES: These rules will be effective on November 5, 2012.

ADDRESSES: EPA has established docket number EPA-R09-OAR-2012-0556 for this action. Generally, documents in the docket for this action are available electronically at http://www.regulations.gov or in hard copy at EPA Region IX, 75 Hawthorne Street, San Francisco, California. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Cynthia Allen, EPA Region IX, (415) 947-4120, allen.cynthia@epa.gov.

SUPPLEMENTARY INFORMATION: Throughout this document, “we,” “us” and “our” refer to EPA.

Table of Contents

I. Proposed Action

II. Public Comments and EPA Responses

III. EPA Action

IV. Statutory and Executive Order Reviews

I. Proposed Action

On July 30, 2012 (77 FR 44560), EPA proposed to approve a draft version of the following rules because we determined that they complied with the relevant CAA requirements.

Local agency | Rule No. | Rule title
WCDBOH | 030.218 | Demonstration of Compliance.
WCDBOH | 030.230 | Record Keeping.
WCDBOH | 030.235 | Requirements for Source Sampling.
WCDBOH | 030.970A | Part 70 Permit Monitoring and Compliance.

Our proposed action contains more information on the rules and our evaluation. Our proposed approval responded to a July 5, 2012 request from the State to parallel process a version of these rules proposed for local adoption on June 28, 2012. On August 30, 2012, NDEP submitted to EPA official copies of Washoe County Rules 030.218, 030.230, 030.235, and 030.970A that were adopted locally on June 28, 2012. On September 10, 2012, EPA determined that the submittal for these Washoe County Rules met the completeness criteria in 40 CFR Part 51 Appendix V, which must be met before formal EPA review. We have reviewed the versions of these rules and they are unchanged from the version we proposed to approve on July 30, 2012.

II. Public Comments and EPA Responses

EPA's proposed action provided a 30-day public comment period. During this period, we received no comments.

III. EPA Action

No comments were submitted that change our assessment of the rules as described in our proposed action. Therefore, as authorized under section 110(k)(3) of the Act, EPA is fully approving these rules into the Nevada SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 4, 2012. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Particulate matter, Reporting and recordkeeping requirements, Volatile organic compounds.

Dated: September 14, 2012.
Jared Blumenfeld,
Regional Administrator, Region IX.

Part 52, chapter I, title 40 of the Code of Federal Regulations is amended as follows:

PART 52—[AMENDED]

1. The authority citation for part 52 continues to read as follows:

Authority: 42 U.S.C. 7401 et seq.

Subpart DD—Nevada

2. In § 52.1470, in paragraph (c), Table 7 is amended by adding four new entries for sections 030.218, 030.230, 030.235, and 030.970A in alphanumeric order to read as follows:

§ 52.1470 Identification of plan.

* * * * *

(c) * * *

Table 7—EPA-Approved Washoe County Regulations
District citation | Title/subject | District effective date | EPA approval date | Additional explanation
* * * * * * *
030.218 | “Demonstration of Compliance” | 06/28/12 | 10/05/12 [Insert Federal Register page number where the document begins] | Submitted on 08/30/12.
030.230 | “Record Keeping” | 06/28/12 | 10/05/12 [Insert Federal Register page number where the document begins | Submitted on 08/30/12.
030.235 | “Requirements for Source Sampling and Testing” | 06/28/12 | 10/05/12 [Insert Federal Register page number where the document begins] |
* * * * * * *
030.970A | “Part 70 Permit Monitoring and Compliance” | 06/28/12 | 10/05/12 [Insert Federal Register page number where the document begins] |
* * * * * * *

[FR Doc. 2012-24527 Filed 10-4-12; 8:45 am]

BILLING CODE 6560-50-P